DEPARTMENT OF HOUSING AND URBAN DEVELOPMENT

[Docket No. FR-4922-N-15; HUD-2006-0178]

Privacy Act; Proposed New Systems of Records

AGENCY: Office of the Chief Information Officer, HUD.

ACTION: Establish a new Privacy Act System of Records.

SUMMARY: The Department of Housing and Urban Development HUD proposes to establish a new record system to add to its inventory of systems of records subject to the Privacy Act of 1974 (5 U.S.C. 552a), as amended. The proposed new system of record is the Single Family Acquired Asset Management System (SAMS), HUD/HS-52. SAMS contains information about purchasers involved in the sale of HUD/FHA single-family homes, successful bidders of HUD-owned properties, HUD employees and contractors.

DATES: Effective Date: This action shall be effective without further notice in 30 calendar days unless comments are received during or before this period that would result in a contrary determination.

Comments Due Date: July 20, 2006.

ADDRESSES: Interested persons are invited to submit comments regarding this notice to the Rules Docket Clerk, Office of General Counsel, Department of Housing and Urban Development, 451 Seventh Street, SW., Room 10276, Washington, DC 20410-0500. Communications should refer to the above docket number and title. A copy of each communication submitted will be available for public inspection and copying between 8 a.m. and 5 p.m. weekdays at the above address.

FOR FURTHER INFORMATION CONTACT: Jeanette Smith, Departmental Privacy Act Officer, 451 Seventh St., SW., Room P800l, Washington, DC 20410, Telephone Number (202) 708-2374. (This is not a toll-free number.) A telecommunication device for hearing and speech-impaired individuals (TTY) is available at (800) 877-8339 (Federal Information Relay Service).

SUPPLEMENTARY INFORMATION: Pursuant to the Privacy Act of 1974 (5 U.S.C. 552a), as amended notice is given that HUD proposes to establish a new system of records as identified as the Single Family Acquired Asset Management System (SAMS), HUD/HS-52.

Title 5 U.S.C. 552a(e)(4) and (11) provide that the public be afforded a 30-day period in which to comment on the new system of records.

The new system report was submitted to the Office of Management and Budget (OMB), the Senate Committee on Governmental Affairs, and the House Committee on Government Reform pursuant to paragraph 4c of Appendix 1 to OMB Circular No. A-130, “Federal Responsibilities for Maintaining Records About Individuals,” July 25, 1994 (59 FR 37914).

Authority: 5 U.S.C. 552a 88 Stat. 1896; 42 U.S.C. 3535(d).

Dated: June 7, 2006.
Lisa Schlosser,
Chief Information Officer.

System name:

Single Family Acquired Asset Management System (SAMS—A80S)

System location:

Charlestown, West Virginia

Categories of individuals covered by the system:

Individuals who are covered by this system include successful bidders of a HUD-owned property.

Also, individuals involved in the sale of HUD/FHA single-family homes Management and Marketing contractors (M&M), HUD employees, brokers, Name and Address identifier contractors, and financial control contractors.

Categories of record in the system:

Files contain identifying information about purchasers, such as name, Social Security Number, and current address. In addition, the files contain appraisal information, tax payments, sales offer information, HUD-1, contract information, vendor information, 1099 information, and accounting transactions.

Authority for maintenance of the system:

National Housing Act as amended (12 U.S.C. 1702 et seq.).

Purpose:

SAMS is a management and accounting system for HUD owned and HUD managed single-family properties. The re-engineered application was introduced into production in 1996. SAMS supports HUD staff at Headquarters and Homeownership Centers (HOCs), and HUD's Management and Marketing (M&M) contractors to track single-family properties from their acquisition by HUD through the steps necessary to resell the properties. SAMS captures pertinent data relating to the properties, including acquisition, maintenance and sales cost, property description and value, bids and sales proceeds, and special program designations.

Routine uses of records maintained in the system, including categories of users and the purpose of such uses:

In addition to those disclosures generally permitted under 5 U.S.C. 552a(b) of the Privacy Act other routine uses include:

(a) To General Accounting Office (GAO) for audit purposes.

(b) IRS for tax purposes.

(c) Inspector General Office (IG) for audit purposes.

(d) Management and Marketing contractors for processing the sale of HUD Homes.

Policies and practices for storing, retrieving, accessing, retaining, and disposing of records in the system:

Storage:

Records are stored electronically in a computer mainframe.

Retrievability:

Records may be retrieved by computer search by the FHA Case Number, Property Address, or Purchaser's name and/or social security number.

Safeguards:

Records are maintained in a secured computer network behind HUD's firewall. Access is limited to authorize personnel.

Retention and disposal:

Information is archived electronically and stored on magnetic tapes. Records will be retained and disposed of in accordance with the General Records Schedule included in HUD Handbook 2228.2, appendix 14, items 21-26.

System manager and address:

Jeannie Bonifer, Office of Single Family Asset Management, 451 7th Street, SW., Room 9184, Washington, DC 20410.

Notification and record access procedures:

For information, assistance, or inquiry about the existence of records, contact the Privacy Act Officer at the Department of Housing and Urban Development, 451 Seventh Street, SW., Washington, DC. Written requests must include the full name, Social Security Number, date of birth, current address, and telephone number of the individual making the request.

Contesting record procedures:

Procedures for the amendment or correction of records, and for applicants want to appeal initial agency determination appear in 24 CFR part 16.

Record source categories:

Purchasers, Brokers, appraisers, contractors, and HUD employees.

Exemptions from certain provisions of the act:

None.

[FR Doc. E6-9600 Filed 6-19-06; 8:45 am]

BILLING CODE 4210-67-P